DEPARTMENT OF JUSTICE

Antitrust Division

Notice Pursuant to the National Cooperative Research and Production Act of 1993—National Armaments Consortium

Notice is hereby given that, on July 13, 2017, pursuant to Section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically, 3D Systems, Inc., Rock Hill, SC; ACTA, Inc., Torrance, CA; Advanced Hydrogen Technologies Corporation, Lenoir, NC; American Plastic Cartridge and Shell, LLC, Philadelphia, PA; Applied Physical Sciences Corp., Groton, CT; APT Research, Inc., Huntsville, AL; Arco Global Services Corp., Ft. Lauderdale, FL; Arete Associates, Huntsville, AL; Avatar Partners, Inc., Huntington Beach, CA; Boston Engineering Corporation, Waltham, MA; BrockTek, LLC, Sierra Vista, AZ; C6I Services Corporation, Chesterfield, NJ; Camco One Industries, LLC, San Antonio, TX; Cincinnati Automation & Mechatronics, LLC, Beavercreek, OH; Combustion Research and Flow Technology, Inc. (CRAFT Tech), Pipersville, PA; Command Post Technologies, Inc., Suffolk, VA; Cubic Defense Applications, Inc., San Diego, CA; Cyan Systems, Santa Barbara, CA; Doolittle Institute, Inc., Fort Walton Beach, FL; Dynetics Technical Solutions, Inc., Huntsville, AL; Eikon Research, Inc., Huntsville, AL; Enable Tech MFG, LLC, Houston, TX; e-Pack, Inc., Ann Arbor, MI; Eutectix, LLC, Chatham, NJ; Evigia Systems, Inc., Ann Arbor, MI; Exact Solution Scientific Consulting, LLC, Morristown, NJ; General Dynamics Land Systems, Inc., Sterling Heights, MI; Grey Castle Group, LLC, Charlotte, NC; Griffon Aerospace Incorporated, Madison, AL; Helios Remote Sensing Systems, Inc., Rome, NY; Hydroid, Inc., Pocasset, MA; In-Depth Engineering Corporation, Fairfax, VA; InertialWave, Inc., Manhattan Beach, CA; Island Pyrochemical Industries, Mineola, NY; iXblue, Inc., Natick, MA; L-3 Technologies, Inc.—L-3 Advanced Programs, Burlington, MA; L3 Technologies, Inc., ComCept Division, Rockwall, TX; L-3 Technologies, Inc., Insight Technology Division, Londonderry, NH; MEI Micro, Inc., Dallas, TX; Mercury Systems, Inc., Andover, MA; Navus Automation, Inc., Knoxville, TN; nLight, Inc., Vancouver, WA; North Atlantic Industries, Inc., Bohemia, NY; Optics 1, Inc., Bedford, NH; optX Imaging Systems, LLC, Lorton, VA; PeopleTec, Inc., Huntsville, AL; Plasma Processes, Inc., Huntsville, AL; PolyCase Ammunition, LLC, Savannah, GA; Probus Test Systems, Inc., Lincroft, NJ; Pulse Aerospace, LLC, Lawrence, KS; Purdue University, West Lafayette, IN; RDZM, LLC, Arlington, VA; Reactive Metals International, Inc., King of Prussia, PA; Resodyn Corporation, Butte, MT; Riptide Software, Inc., Oviedo, FL; Robotic Research, LLC, Gaithersburg, MD; Sabre Systems, Inc., Warrington, PA; SAFT America, Inc., Cockeysville, MD; SCD.USA Infrared, LLC, West Melbourne, FL; Schafer Aerospace, Inc., Albuquerque, NM; Shell Shock Technologies, Inc., Westport, CT; Shonborn-Becker Systems Inc., Eatontown, NJ; Simulation Technologies, Incorporated, Huntsville, AL; Spear Power Systems, LLC, Lee's Summit, MO; Sub-One Systems, LLC, Tucson, AZ; Trex Enterprises Corporation, San Diego, CA; TROM Technologies, Potlatch, ID; True Velocity, Inc., Garland, TX; Undersea Solutions Group, Panama City Beach, FL; US Strategic, LLC, Saint Louis, MO; Vector ElectroMagnetics, LLC, Beavercreek, OH; and Virginia Tech, Blacksburg, VA, have been added as parties to this venture.

Also, Alytic, Inc., King George, VA; Angel Armor, Fort Collins, CO; CheyTac USA, LLC, Nashville, GA; D&H-Nav Technologies Corporation, Jackson, NJ; GaN Corporation, Huntsville, AL; General Atomics Aeronautical Systems, Inc., San Diego, CA; GPC Engineering Company, Ridgecrest, CA; GuardBot, Inc., Stamford, CT; Ideal Innovations Incorporated, Arlington, VA; Integrated Global Insights, LLC, Burke, VA; International Dynamics Corp., Clermont, FL; L-3 Electron Devices, Williamsport, PA; Logikos, Inc., Fort Wayne, IN; Luna Innovations Incorporated, Roanoke, VA; Nanomaterials Discovery Corporation, Cheyenne, WY; National Nanotechnology Manufacturing Center, Inc., Swainsboro, GA; Paramount Metal Finishing, Linden, NJ; Patriot American Solutions, Rockaway, NJ; pH Matter, LLC, Columbus, OH; Power Design Services, San Jose, CA; Streamline Circuits Corp., Santa Clara, CA; Tech Projects LLC, Honolulu, HI; The ExOne Company, North Huntington, PA; University of Louisiana at Lafayette, Lafayette, LA; West Virginia University Research Corporation, Morgantown, VA, have withdrawn as parties to this venture.

No other changes have been made in either the membership or planned activity of the group research project. Membership in this group research project remains open, and NAC intends to file additional written notifications disclosing all changes in membership.

On May 2, 2000, NAC filed its original notification pursuant to Section 6(a) of the Act. The Department of Justice published a notice in the Federal Register pursuant to Section 6(b) of the Act on June 30, 2000 (65 FR 40693).

The last notification was filed with the Department on April 13, 2017. A notice was published in the Federal Register pursuant to Section 6(b) of the Act on May 12, 2017 (82 FR 22159).

Patricia A. Brink,
Director of Civil Enforcement, Antitrust Division.

[FR Doc. 2017-17149 Filed 8-14-17; 8:45 am]

BILLING CODE 4410-11-P